DEPARTMENT OF AGRICULTURE

Rural Housing Service

[Docket No. RHS-22-NONE-0015]

60-Day Notice of Proposed Information Collection: Environmental Policies and Procedures OMB Control No.: 0575-0197

AGENCY: Rural Housing Service, USDA.

ACTION: Notice; request for comments.

SUMMARY: In accordance with the Paperwork Reduction Act of 1995, as amended, the Rural Utilities Service, Rural Business-Cooperative Service, and Rural Housing Service, agencies that comprise the Rural Development Mission Area within the United States Department of Agriculture, announce their intention to request an extension of a currently approved information collection and invites comments on this information collection.

DATES: Comments on this notice must be received by October 4, 2022 to be assured of consideration.

ADDRESSES: Comments may be submitted electronically by the Federal eRulemaking Portal: Go to http://www.regulations.gov and, in the “Search Field” box, labeled “Search for Rules, Proposed Rules, Notices or Supporting Documents,” enter the following docket number: (RHS-22-NONE-0015). To submit or view public comments, click the “Search” button, select the “Documents” tab, then select the following document title: (60-Day Notice of Proposed Information Collection: Environmental Policies and Procedures OMB Control No.: 0575-0197) from the “Search Results” and select the “Comment” button. Before inputting your comments, you may also review the “Commenter's Checklist” (optional). Insert your comments under the “Comment” title, click “Browse” to attach files (if available). Input your email address and select “Submit Comment.”

Information on using Regulations.gov, including instructions for accessing documents, submitting comments, and viewing the docket after the close of the comment period, is available through the site's “FAQ” link.

Other Information: Additional information about Rural Development and its programs is available on the internet at https://www.rd.usda.gov.

All comments will be available for public inspection online at the Federal eRulemaking Portal (https://www.regulations.gov).

FOR FURTHER INFORMATION CONTACT: Crystal Pemberton, Management Analyst Branch 1, Rural Development Innovation Center—Regulations Management Division, United States Department of Agriculture, 1400 Independence Avenue SW, South Building, Washington, DC 20250-1522. Telephone: (202) 260-8621, Email: Crystal.Pemberton@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see, 5 CFR 1320.8(d)). This notice identifies the following information collection that the Agencies are submitting to OMB as extension to an existing collection with Agency adjustment.

Title: Environmental Policies and Procedures.

OMB Control Number: 0575-0197.

Expiration Date of Approval: December 31, 2022.

Type of Request: Extension of a currently approved information collection.

Estimate of Burden: 4.98 hours.

Respondents: Not-for-profit institutions and other businesses.

Estimated Number of Respondents: 92,597.

Estimated Number of Responses per Respondent: 1.

Estimated Total Annual Burden on Respondents: 461,736 hours.

Abstract: The National Environmental Policy Act (NEPA) and other applicable environmental and historic preservation statutes require all Federal agencies to consider the potential environmental consequences of their actions on the quality of the human environment and historic properties before agency decisions are made and prior to it taking an action; in RD's case the “action” is the approval of financial assistance and obligation of Federal funds. To comply with NEPA and other environmental laws, regulations and Executive Orders, RD requires applicants submitting applications for financial assistance to include project-specific environmental information along with other underwriting requirements. The purpose of this information is to evaluate and document the environmental implications of applicant's proposals. The reporting burden covered by this collection of information consists of documents and written burden to support Environmental Policies and Procedures.

Comments are invited on:

(a) Whether the collection of information is necessary for the performance of the functions of the agency, including whether the information will have practical utility;

(b) the accuracy of the agency's estimate of the burden of the collection of information including the validity of the methodology and assumptions used;

(c) ways to enhance the quality, utility and clarity of the information to be collected; and

(d) ways to minimize the burden of the collection of information on respondents, including through the use of appropriate automated, electronic, mechanical, or other technological collection techniques or other forms of information technology. All responses to this notice will be summarized and included in the request for OMB approval. All comments will become a matter of public record.

Copies of this information collection can be obtained from Crystal Pemberton, Management Analyst, Branch 1, Rural Development Innovation Center—Regulations Management Division, United States Department of Agriculture, 1400 Independence Avenue SW, South Building, Washington, DC 20250-1522. Telephone: (202) 260-8621, Email: Crystal.Pemberton@usda.gov. All responses to this notice will be summarized and included in the request for OMB approval. All comments will also become a matter of public record.

Joaquin Altoro,
Rural Housing Service, Administrator.

[FR Doc. 2022-16794 Filed 8-4-22; 8:45 am]

BILLING CODE P